DEPARTMENT OF VETERANS AFFAIRS

[OMB Control No. 2900-0460]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before January 2, 2003.

FOR FURTHER INFORMATION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0460.” Send comments and recommendations concerning any aspect of the information collection to VA's OMB Desk Officer, OMB Human Resources and Housing Branch, New Executive Office Building, Room 10235, Washington, DC 20503 (202) 395-7316. Please refer to “OMB Control No. 2900-0460” in any correspondence.

SUPPLEMENTARY INFORMATION:

Title: Request for Verification of Employment, VA Form 26-8497.

OMB Control Number: 2900-0460.

Type of Review: Extension of a currently approved collection.

Abstract: VA Form 26-8497 is used by lenders to verify a loan applicant's income and employment information when making guaranteed and insured loans. VA, however, does not require the exclusive use of this form for verification purposes; any comprehensible form or independent verification would be acceptable, provided all information presently shown on VA Form 26-8497 is provided. The form is also used in processing direct loan cases, offers on acquired properties, and release of liability/substitution of entitlement cases when needed.

An agency may not conduct or sponsor, and a person is not required to respond to a collection of information unless it displays a currently valid OMB control number. The Federal Register notice with a 60-day comment period soliciting comments on this collection of information was published on September 13, 2002, at pages 58102-58103.

Affected Public: Business or other for-profit.

Estimated Annual Burden: 25,000 hours.

Estimated Average Burden Per Respondent: 10 minutes.

Frequency of Response: On occasion.

Estimated Number of Total Respondents: 150,000.

Dated: November 22, 2002.
By direction of the Secretary.
Ernesto Castro,
Director, Records Management Service.

[FR Doc. 02-30591 Filed 12-2-02; 8:45 am]

BILLING CODE 8320-01-P